DEPARTMENT OF COMMERCE

Patent and Trademark Office

[Docket No. PTO-C-2023-0056]

National Medal of Technology and Innovation Nomination Evaluation Committee Charter Renewal

AGENCY: United States Patent and Trademark Office, Commerce.

ACTION: Notice.

SUMMARY: The Department of Commerce has renewed the charter for the National Medal of Technology and Innovation Nomination Evaluation Committee (NMTI Committee) for an additional two-year period, as it is a necessary committee that is in the public interest. The charter is renewed until February 8, 2026.

FOR FURTHER INFORMATION CONTACT: Linda Hosler, Program Manager, NMTI Program, United States Patent and Trademark Office, 600 Dulany Street, Alexandria, VA 22314; 571-272-8514; or nmti@uspto.gov. Information is also available at www.uspto.gov/nmti.

SUPPLEMENTARY INFORMATION: The NMTI Committee was established in accordance with 15 U.S.C. 1512 and the provisions of the Federal Advisory Committee Act, 5 U.S.C. 1001 et seq. The NMTI Committee members are distinguished experts from the private and public sectors, with experience in and an understanding of technology and technological innovation. The NMTI Committee provides recommendations of nominees for the NMTI. The duties of the NMTI Committee are solely advisory in nature. Nominations for the NMTI are solicited through an open, competitive, and nationwide call, and the NMTI Committee members are responsible for reviewing the nominations received. The NMTI Committee forwards its recommendations, through the Under Secretary of Commerce for Intellectual Property and Director of the United States Patent and Trademark Office, to the President.

On December 22, 2023, the Secretary of Commerce approved the continuance of the NMTI Committee. On February 7, 2024, the Deputy Assistant Secretary for Administration, Performing the non-exclusive functions and duties of the Chief Financial Officer and Assistant Secretary for Administration, signed the charter for the NMTI Committee. This charter will terminate two years from the date of its filing with the standing committees of the United States Senate and the House of Representatives having legislative jurisdiction over the United States Patent and Trademark Office unless earlier terminated or renewed by proper authority. The charter was filed on February 8, 2024, and it expires on February 8, 2026.

Katherine K. Vidal,
Under Secretary of Commerce for Intellectual Property and Director of the United States Patent and Trademark Office.

[FR Doc. 2024-03526 Filed 2-20-24; 8:45 am]

BILLING CODE 3510-16-P